DEPARTMENT OF ENERGY

Federal Energy Regulatory Commission

[Docket No. EC05-54-000, et al.]

Dynegy, Inc., et al.; Electric Rate and Corporate Filings

April 5, 2005.

The following filings have been made with the Commission. The filings are listed in ascending order within each docket classification.

1. Dynegy Inc.

[Docket No. EC05-64-000]

Take notice that on March 30, 2005, Dynegy Inc. (Applicant), on behalf of its public utility subsidiaries, submitted an application pursuant to section 203 of the Federal Power Act for authorization of a transfer of indirect control of its jurisdictional facilities, arising from the proposed change in the state of incorporation of Applicant from Illinois to Delaware.

Comment Date: 5 p.m. Eastern Time on April 20, 2005.

2. Bear Swamp Power Company LLC

[Docket No. EG05-54-000]

Take notice that on March 17, 2005, Bear Swamp Power Company LLC (BSPC) filed an application for a determination of exempt wholesale generator status pursuant to section 32(a)(1) of the Public Utility Holding Company Act of 1935, as amended, 15 U.S.C. 79z-5a, and Part 365 of the Commission's regulations. BSPC states that it is a Delaware limited liability company that will operate and subsequently acquire and operate the Bear Swamp Pumped Storage Hydroelectric Facility and the Fife Brook Hydroelectric Facility.

Comment Date: 5 p.m. Eastern Time on April 27, 2005.

3. Michigan Electric Transmission Company, LLC

[Docket No. ER03-1341-002]

Take notice that on March 30, 2005, Michigan Electric Transmission Company, LLC, (Michigan Electric) in compliance with the Commission's order issued November 17, 2003, 105 FERC ¶ 61,214, submitted schedules showing its actual weighted average cost of long-term debt for calendar year 2004.

Michigan Electric states that copies of this filing were served on all parties included on the Commission's official service list established in this proceeding.

Comment Date: 5 p.m. Eastern Time on April 20, 2005.

4. Public Service Company of New Mexico

[Docket No. ER05-741-000]

Take notice that on March 30, 2005, Public Service Company of New Mexico (PNM) tendered for filing a notice of change in rates and the provision for compensation for line losses for firm point-to-point and network integration transmission services under its FERC Electric Tariff, Second Revised Volume No. 4 (OATT), and for firm point-to-point transmission services under non-OATT bilateral contracts between PNM and its firm transmission service customers. PNM requests an effective date of June 1, 2005, for the proposed rate changes.

PNM states that copies of the filing have been served on all affected customers, the New Mexico Public Regulation Commission, and the New Mexico Attorney General. Copies of the filing are available for public inspection at PNM's offices in Albuquerque, New Mexico.

Comment Date: 5 p.m. Eastern Time April 20, 2005.

5. Cambridge Electric Light Company; Commonwealth Electric Company

[Docket No. ER05-742-000]

Take notice that on March 30, 2005, Cambridge Electric Light Company and Commonwealth Electric Company (collectively, Companies) submitted revisions to Schedule 21-CEL and Schedule 21-CEC of Section II of the Transmission, Markets and Services Tariff of ISO New England Inc., FERC Electric Tariff, No. 3 (ISO-NE Tariff). The Companies request an effective date of June 1, 2005

Comment Date: 5 p.m. Eastern Time on April 20, 2005.

6. Pacific Summit Energy LLC

[Docket No. ER05-743-000]

Take notice that on March 30, 2005, Pacific Summit Energy LLC (PSE) tendered for filing with the Commission, pursuant to 18 CFR 35.13 (2004), a petition to accept for filing its initial market-based rate tariff to sell electric power and ancillary services; waive certain of the Commission's regulations promulgated under the Federal Power Act; and grant certain blanket approvals under other such Commission regulations.

Comment Date: 5 p.m. Eastern Time on April 20, 2005.

7. Major Lending, LLC

[Docket No. ER05-744-000]

Take notice that on March 30, 2005, Major Lending, LLC (Major Lending) petitioned the Commission for acceptance of its Rate Schedule FERC No. 1; the granting of certain blanket approvals, including the authority to sell electricity at market based rates; and waiver of certain Commission regulations. Major Lending states that it intends to engage in wholesale electric power and energy purchases and sales as a marketer. Major Lending further states it is not in the business of generating or transmitting electric power.

Comment Date: 5 p.m. Eastern Time on April 20, 2005.

8. Northeast Utilities Company

[Docket No. ER05-745-000]

Take notice that on March 30, 2005, Northeast Utilities Service Company (NUSCO), on behalf of its operating companies, filed a service agreement with Unitil Energy Systems, Inc. NUSCO requests that the service agreement be made effective June 1, 2005.

NUSCO states that copies of the filing were served on the customer and the Connecticut, Massachusetts and New Hampshire state regulatory commissions.

Comment Date: 5 p.m. Eastern Time on April 20, 2005.

9. PSI Energy, Inc.

[Docket No. ER05-746-000]

Take notice that on March 30, 2005, PSI Energy, Inc., (PSI) tendered for filing the Transmission and Local Facilities (T&LF) Agreement for Calendar Year 2003 Reconciliation between PSI and Wabash Valley Power Association, Inc., and between PSI and Indiana Municipal Power Agency, designated as PSI's Rate Schedule FERC No. 253.

Comment Date: 5 p.m. Eastern Time on April 12, 2005.

10. ISO New England Inc. and New England Power Pool

[Docket No. ER05-747-000]

Take notice that on March 30, 2005, ISO New England Inc., joined by the New England Power Pool (NEPOOL) Participants Committee, filed amendments to Section III of the Transmission, Markets and Services Tariff of ISO New England Inc., FERC Electric Tariff No. 3. NEPOOL states that the amendments make clarifying changes to provisions governing the Forward Reserve Market and partial de-listing of Resources.

The ISO and NEPOOL state that paper copies of the filing were sent to the New England state governors and regulatory agencies, and electronic copies were sent to the Governance Participants.

Comment Date: 5 p.m. Eastern Time on April 20, 2005.

11. California Independent System Operator Corporation

[Docket No. ER05-748-000]

Take notice that on March 30, 2005, the California Independent System Operator Corporation (ISO), tendered for filing a Notice of Cancellation of the letter agreement between the ISO and Reliant Energy Services (RES) and the letter agreement between the ISO and Sempra Energy Resources (SER), both dated and effective as of December 4, 2003. ISO states that the purpose of this filing is to accommodate a planned change in the dynamic scheduling of the El Dorado Energy Merchant Power Plant planned for April 1, 2005.

The ISO states that this filing has been served on RES, SER, the California Public Utilities Commission, the California Electricity Oversight Board, and all entities that are on the official service list.

Comment Date: 5 p.m. Eastern Time on April 20, 2005.

12. California Independent System Operator Corporation

[Docket No. ER05-749-000]

Take notice that on March 30, 2005the California Independent System Operator Corporation (ISO), tendered for filing a Dynamic Scheduling Agreement for Scheduling Coordinators (DSA) between the ISO and Reliant Energy Services, Inc. (RES) for acceptance by the Commission. The ISO requests an effective date of April 1, 2005.

The ISO states that this filing has been served on RES, Sempra Energy Resources, the California Public Utilities Commission, and the California Electricity Oversight Board.

Comment Date: 5 p.m. Eastern Time on April 20, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-1753 Filed 4-13-05; 8:45 am]

BILLING CODE 6717-01-P